NATIONAL SCIENCE FOUNDATION

National Science Board; Task Force on Cost Sharing; Committee on Strategy and Budget; Sunshine Act; Notice

The National Science Board's Task Force on Cost Sharing of the Committee on Strategy and Budget, pursuant to NSF regulations (45 CFR Part 614), the National Science Foundation Act, as amended (42 U.S.C.1862n-5), and the Government in the Sunshine Act (5 U.S.C. 552b), hereby gives notice in regard to the scheduling of a teleconference, as follows:

Date and Time: Wednesday, January 16, 2008 at 2 p.m.

Subject Matter: 1. Update on Cost Sharing Roundtable Discussion at the NSF I/UCRC 2008 Annual Meeting.

2. Discussion of Draft February 9, 2008 Board Report to Congress.

Status: Open.

Place: This teleconference will originate from the National Science Board Office, National Science Foundation, 4201 Wilson Blvd., Arlington, VA 22230. Room 130 will be available to the public to listen to this teleconference.

Please refer to the National Science Board Web site (http://www.nsf.gov/nsb) for more information or schedule updates, or contact: Jennifer Richards, National Science Board Office, 4201 Wilson Blvd., Arlington, VA 22230. Telephone: (703) 292-7000.

Russell Moy,
Attorney-Advisor.

[FR Doc. E8-326 Filed 1-10-08; 8:45 am]

BILLING CODE 7555-01-P